NUCLEAR REGULATORY COMMISSION

[NRC-2016-0178]

Enhancing Participation in NRC Public Meetings

AGENCY: Nuclear Regulatory Commission.

ACTION: Proposed revision to policy statement; request for comments.

SUMMARY: To further clarify and enhance participation in public meetings conducted by the U.S. Nuclear Regulatory Commission (NRC), the NRC is proposing to revise its public meeting policy. The revised policy statement redefines the three categories of public meetings and identifies the level of public participation offered at each type of meeting. The revised policy statement also clarifies notification expectations for meetings that include physical presence in the meeting room and meetings that rely solely on remote access technology such as a teleconferencing. The proposed revisions will improve the consistency of the NRC's public meetings and help participants better prepare for NRC meetings.

DATES: Submit comments by November 14, 2016. Comments received after this date will be considered if it is practical to do so, but the Commission is able to ensure consideration only for comments received on or before this date.

ADDRESSES: You may submit comments by any of the following methods:

• Federal Rulemaking Web site: Go to http://www.regulations.gov and search for Docket ID NRC-2016-0178. Address questions about NRC dockets to Carol Gallagher; telephone: 301-415-3463; email: Carol.Gallagher@nrc.gov. For technical questions contact the individual listed in the FOR FURTHER INFORMATION CONTACT section of this document.

• Mail comments to: Cindy Bladey, Office of Administration, Mail Stop: OWFN-12-H08, U.S. Nuclear Regulatory Commission, Washington, DC 20555-0001.

• For additional direction on obtaining information and submitting comments, see “Obtaining Information and Submitting Comments” in the SUPPLEMENTARY INFORMATION section of this document.

FOR FURTHER INFORMATION CONTACT: Lance Rakovan, Office of the Executive Director for Operations, U.S. Nuclear Regulatory Commission, Washington, DC 20555-0001; telephone: 301-415-2589; email: Lance.Rakovan@nrc.gov.

SUPPLEMENTARY INFORMATION:

I. Obtaining Information and Submitting Comments

A. Obtaining Information

Please refer to Docket ID NRC-2016-0178 when contacting the NRC about the availability of information for this action. You may obtain publicly-available information related to this action by any of the following methods:

• Federal Rulemaking Web site: Go to http://www.regulations.gov and search for Docket ID NRC-2016-0178.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2016-0178 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Further Information

The entire text of the proposed revision of the policy statement, “Enhancing Public Participation in NRC Meetings,” is available as an attachment to this document.

Dated at Rockville, Maryland, this 24th day of August, 2016.
For the Nuclear Regulatory Commission.
Annette L. Vietti-Cook,
Secretary of the Commission.

Attachment—Commission Policy Statement on Staff Meetings Open to the Public

A. Purpose

The Nuclear Regulatory Commission's (NRC) longstanding practice is to provide the public with substantial information on its activities, to conduct business in an open manner, and to balance openness and transparency with the need to exercise regulatory and safety responsibilities without undue administrative burden. The NRC's policy is to open meetings between the agency staff and one or more outside persons to observation and participation to the extent possible. The NRC has had a formal policy regarding open (public) meetings since 1978. The current Commission Policy Statement Enhancing Public Participation in NRC Meetings was issued in 2002 and can be accessed at http://www.nrc.gov/reading-rm/doc-collections/commission/policy/67fr36920.html.

This policy establishes three public meeting categories based on the level of participation offered to attendees. The policy provides information such as descriptions of each category, information on how public meetings are announced, post-meeting activities, and applicability and exceptions.

B. Participation in NRC Public Meetings

In order to fulfill the NRC's commitment to openness, the level of participation, purpose, and description for each category of public meeting are described below. When assigning a category to a meeting, NRC staff will consider the objective of the meeting and the extent of known public interest in the topic.

The three meeting categories are based on the level of public participation to be provided at each type of meeting. Thus, some categories may support multiple meeting formats. The label for each category provides an indication of the level of participation meeting attendees can expect.

The NRC is committed to providing an atmosphere of civility and inclusion at its public meetings. All participants are expected to follow established ground rules, including those provided in the applicable meeting notice posted on the NRC's public Web site, to support this atmosphere of civility and inclusion regardless of personal viewpoints. If the actions of one or more participants significantly impact this atmosphere, and therefore other participants' ability to observe or participate in a meeting, the NRC staff shall take appropriate actions to restore a more respectful environment, including ending a meeting early if necessary.

Observation Meeting

Meeting Purpose—The purpose of this type of meeting is for the NRC to meet with representatives from one or more groups in an open and transparent manner to discuss regulatory and technical matters. The meeting will inform the public by providing information to help them understand the applicable regulatory issues and NRC actions.

Level of Participation—Other attendees besides the representatives noted above are invited to observe the meeting and discuss regulatory issues with NRC representatives at a designated point or points identified on the agenda. This does not preclude the licensee from responding to questions if they choose to do so.

Description—Meetings in this category include the NRC meeting with one or more industry groups, licensees, vendors, applicants, potential applicants, or non-government organizations, to discuss regulatory issues regarding a specific facility (or facilities), certificates of compliance, licenses, or license applications. This category of meeting could also include the NRC meeting with representatives of task force groups, industry groups, or public interest and citizen groups. The primary discussions are expected to occur between the NRC and representatives of those entities or groups.

The following description will be included in an Observation Meeting notice:

This is a meeting in which attendees will have an opportunity to observe the NRC performing its regulatory function or discussing regulatory issues. Attendees will have an opportunity to ask questions of the NRC staff or make comments about the issues discussed following the business portion of the meeting, but the NRC is not actively soliciting comments on regulatory decisions.

Examples—Meetings of this category may include meetings with licensees (or applicants) to discuss license renewal, amendment or exemption requests; meetings with applicants related to topical report reviews, combined licenses, early site permits, or design certifications; annual public meetings to discuss plant performance as part of the Reactor Oversight Process; renewals, or amendments. Certain inspection exit meetings, such as those for Incident Investigation Teams or Augmented Inspection Teams, are included under this category.

Information Meeting With a Question and Answer Session

Meeting Purpose—The purpose of this type of meeting is for the NRC to share information and discuss applicable regulatory issues and NRC actions with meeting attendees. The meeting will inform the public by providing information to help them understand the applicable regulatory issues and NRC actions through NRC presentations and discussions with NRC staff. These are organized, yet informal opportunities to interact with and ask questions of the NRC staff not associated with a more traditional public meeting format.

Level of Participation—This type of meeting is tailored to inform attendees and allow them to ask questions.

Description—Meetings in this category are held with interested parties, including representatives of non-government organizations, private citizens, or various businesses or industries, to engage them in a discussion of regulatory issues.

The following description will be included in the notice for an Information Meeting with a Question and Answer Session:

The purpose of this meeting is for the NRC staff to meet directly with individuals to provide an opportunity to discuss regulatory and technical issues. Attendees will have an opportunity to ask questions of the NRC staff or make comments about the issues discussed throughout the meeting, however the NRC is not actively soliciting comments towards regulatory decisions at this meeting.

Examples—Meetings of this category may include town hall and roundtable discussions, and open house meetings.

Comment-Gathering Meeting

Meeting Purpose—The purpose of this type of meeting is for the NRC to obtain feedback on regulatory issues and NRC actions. In most cases, the meeting will include a presentation by the NRC to explain the regulatory issue. The feedback received at these meetings is used to support actions such as licensing and rulemaking activities.

Level of Participation—This type of meeting is tailored for attendees to provide opinions, perspectives, and feedback.

Description—This type of meeting would be held with a broad number of interested parties, including representatives of non-government organizations, private citizens, or various businesses or industries, to fully engage them in a discussion of a specific regulatory issue.

The following description will be included in the notification of a Comment-Gathering Meeting:

The purpose of this meeting is for NRC staff to meet directly with individuals to receive comments from participants on specific NRC decisions and actions to ensure that NRC staff understands their views and concerns.

The notice for such meetings should include details as to how comments will be taken at the meeting (e.g., NRC staff taking notes, or creating a transcript of the meeting) and how NRC will use the comments (e.g., to inform NRC discussions, or as official comments related to a formal NRC regulatory decision), as well as to clarify whether participants will need to also submit comments made at the meeting in writing to receive formal consideration.

Examples—Meetings of this category may include town hall and roundtable discussions, environmental impact statement scoping meetings, and workshops.

C. Notice and Access

Although the extent of meeting outreach and preparation by NRC staff can be different for each meeting, certain steps are usually taken. Meeting information will be announced as soon as the NRC staff is reasonably confident that a meeting will be held and firm date, time, and facility arrangements have been made. This will generally occur no fewer than 10 days before a meeting. When a meeting must be scheduled but cannot be announced within the 10-day timeframe, the NRC staff will provide as much advance notice as possible.

Public notice of meetings will be made through the NRC's Public Meetings & Involvement Web page at http://www.nrc.gov/public-involve.html. Meeting changes or cancellations will also be announced promptly on this Web page. Individuals who cannot access the NRC's public Web site can contact the NRC's PDR staff via a toll-free number (1-800-397-4209) or by email (pdr.resource@nrc.gov) for information on scheduled NRC meetings. Some meetings, specifically meetings with a high level of public interest, may also be noticed in the Federal Register or through other means such as a press release, blog post, or advertisement in local newspapers.

Meeting details and materials such as an agenda, names of participants, and background documents will be entered into the NRC's Public Meeting Schedule Web site. A link to the materials as well as the Agencywide Documents Access and Management System (ADAMS) accession number for additional meeting materials such as presentations will, when possible, be provided in the meeting notice on the NRC's public Web site under the “Public Meetings & Involvement” page at http://www.nrc.gov/public-involve.html.

Audio teleconferencing and other technologies that allow participation from locations other than a meeting room will be used whenever possible to help ensure widespread involvement in meetings. If information on how to participate remotely in a meeting is not provided in the meeting notice, individuals may request the use of such technology through the meeting contact listed on the meeting notice. Such requests may be granted to the extent budgeted resources are available and technical factors can be accommodated.

D. After-Meeting Activities

The NRC staff will provide answers to questions as appropriate during the public meeting and will inform attendees at the meeting how it plans to address questions that cannot be answered at the meeting. Informal follow-up (telephone or email) may be appropriate. Individuals also have the option of calling, writing, or emailing the NRC staff about particular concerns. NRC staff will provide feedback forms at all public meetings so that comments can be reviewed and offices can track any planned improvements or resulting actions, as appropriate. NRC staff will make meeting summaries publicly available in ADAMS following the meeting.

E. Innovation

The NRC staff will make efforts, as appropriate, to find new and innovative ways to interact with individuals, including exploring varied meeting formats and other ways to incorporate technologies that allow participation from locations other than a meeting room. Experiences with new methods will be shared across the agency for information and consideration by other NRC staff.

F. Applicability and Exceptions

This policy applies to planned, formal encounters between NRC staff members and outside individuals or entities, with an expressed intent of discussing substantive issues directly associated with the NRC's regulatory responsibilities. Such meetings will be designated in advance as public meetings, open for public attendance and categorized in accordance with this policy, subject to the following conditions and exceptions:

1. This policy applies solely to NRC staff-sponsored and conducted meetings with an outside individual or entity. It does not apply to a meeting conducted by an outside individual or entity where an NRC staff member might participate, nor when an NRC employee attends a meeting outside of his or her official capacity.

2. This policy does not apply to meetings between the NRC staff and outside individuals or entities who are:

a. Under contract to the NRC;

b. Acting as an official consultant to the NRC;

c. Acting as an official representative of an agency of the executive, legislative, or judicial branch of the U.S. Government (except on matters where the agency is subject to NRC regulatory oversight);

d. Acting as an official representative of a foreign government or representing an international organization such as the International Atomic Energy Agency; or

e. Acting as an official representative of a State or local government or Tribal official.

3. Meetings between the NRC staff and outside individuals or entities will not be designated as public meetings if the NRC staff determines that the subject matter or information to be discussed in the meeting:

a. Is specifically authorized by an Executive Order to be withheld in the interests of national defense or foreign policy (classified information);

b. Is specifically exempt from public disclosure by statute (e.g., safeguards or proprietary information);

c. Is of a personal nature where such disclosure would constitute a clearly unwarranted invasion of personal privacy;

d. Is related to a planned, ongoing, or completed investigation, or contains information compiled for law enforcement purposes;

e. Could compromise the ongoing reviews and inspections associated with an open allegation;

f. Could result in the inappropriate disclosure and dissemination of preliminary, pre-decisional, or unverified information;

g. Is for general information exchange having no direct, substantive connection to a specific NRC regulatory decision or action; however, should discussions in a closed meeting approach issues that might lead to a specific regulatory decision or action, the NRC staff may advise the meeting attendees that such matters cannot be discussed and propose discussing the issues in a future public meeting; or

h. Indicates that the administrative burden associated with public attendance at the meeting could interfere with the NRC staff's execution of its safety and regulatory responsibilities, such as when the meeting is an integral part of the execution of the NRC inspection program.

4. This policy does not apply to Commission meetings, advisory committee meetings, meetings related to financial assistance or acquisition requirements, or to meetings sponsored by offices that report directly to the Commission (for example, the Office of the General Counsel or the Office of the Chief Financial Officer). Similarly, it does not apply to “government-to-government” meetings: Meetings between NRC staff and representatives of State governments, including Agreement State representatives, relating to NRC Agreement State activities or to State regulatory actions or to other matters of general interest to the State or to the Commission, as well as meetings between NRC staff and representatives of local or Tribal governments. Also, the policy does not apply to or supersede any existing law, rule or regulation that addresses public attendance at a specific type of meeting. For example, part 7 of Title 10 of the Code of Federal Regulations (10 CFR), “Advisory Committees,” and 10 CFR part 9, “Public Records,” will continue to be applicable to advisory committee meetings and Commission meetings, respectively.

5. This policy does not cover the hearings associated with adjudicatory proceedings under the Commission's Rules of Practice and Procedure set forth in 10 CFR part 2. The term “hearings” relates primarily to Commission adjudicatory proceedings on various types of license applications and licensing actions (e.g., applications for initial issuance of a license, amendment of an existing license, renewal of a license) or to enforcement actions involving the imposition of civil penalties or orders to modify, suspend, or revoke a license or take other appropriate action. Specific requirements regarding participation in and the conduct of adjudicatory proceedings (including the settlement of such proceedings) are provided in the Commission's Rules of Practice and Procedure set forth in 10 CFR part 2. This policy does not cover meetings concerning the settlement of enforcement matters.

6. Certain meetings that would normally be closed under section F.3.a. or F.3.b. above may be opened to cleared members of the public who also have a need-to-know. A cleared member of the public is a person who holds a U.S. Government security clearance or has been granted access to Safeguards Information in accordance with 10 CFR 73.22(b).

7. This policy may be applicable to only part of a meeting. For example, an NRC meeting may have a portion that is open to the public and a portion that is closed to the public due to any of the exceptions listed above. In these cases, this policy statement is applicable to the public portion of the meeting only.

8. This policy is a matter of NRC discretion; the NRC reserves the right to depart from any stated conditions as circumstances may warrant.

G. Contact

The primary point of contact in the agency for general issues related to this policy will be the Deputy Assistant for Operations, Office of the Executive Director for Operations. The Office of Public Affairs is also available to receive questions and suggestions. There are also opportunities for comment on our public participation policies, or on many of our programs through the NRC's Web site under the “Public Meetings & Involvement” page at http://www.nrc.gov/public-involve.html.

[FR Doc. 2016-20946 Filed 8-30-16; 8:45 am]

BILLING CODE 7590-01-P